DEPARTMENT OF ENERGY

Federal Energy Regulatory Commission

[Project No. 2009-128—VA]

Virginia Electric and Power Company; Notice of Availability of Environmental Assessment

September 29, 2009.

In accordance with the National Environmental Policy Act of 1969 and Federal Energy Regulatory Commission regulations, 18 CFR part 380 (Order No. 486, 52 FR 47879), the Office of Energy Projects has reviewed Virginia Electric and Power Company's application for non-project use of project lands and waters to permit East Oaks, LLC (East Oaks) to construct a boat forklift pad at its commercial marina at the Roanoke Rapids and Gaston Project. The proposal is located on Lake Gaston in Warren County, North Carolina.

A copy of the EA is on file with the Commission and is available for public inspection. The EA may also be viewed on the Commission's Web site at http://www.ferc.gov using the “eLibrary” link. Enter the docket number (P-2009) excluding the last three digits in the docket number field to access the document. For assistance, contact FERC Online Support at FERCOnlineSupport@ferc.gov or toll-free at 1-866-208-3676, or for TTY, (202) 502-8659.

Any comments on the EA should be filed by October 29, 2009 and should be addressed to the Secretary, Federal Energy Regulatory Commission, 888 First Street, NE., Room 1-A, Washington, DC 20426. Please reference the project name and project number (P-2009-128) on all comments. Comments may be filed electronically via the Internet in lieu of paper. The Commission strongly encourages electronic filings. See 18 CFR 385.2001(a)(1)(iii) and the instructions on the Commission's Web site under the “eFiling” link. For further information, contact Shana High at (202) 502-8674.

Kimberly D. Bose,
Secretary.

[FR Doc. E9-23985 Filed 10-5-09; 8:45 am]

BILLING CODE 6717-01-P